DEPARTMENT OF COMMERCE

International Trade Administration

(C-533-825)

Polyethylene Terephthalate Film, Sheet, and Strip from India: Final Results of Countervailing Duty Administrative Review

AGENCY: Import Administration, International Trade Administration, Department of Commerce.

SUMMARY: On August 6, 2007, the Department of Commerce (the Department) published in the Federal Register the preliminary results of administrative review of the countervailing duty order on polyethylene terephthalate film, sheet, and strip (PET Film) from India for the period January 1, 2005 through December 31, 2005. See Polyethylene Terephthalate Film, Sheet, and Strip from India: Notice of Preliminary Results and Rescission, in Part, of Countervailing Duty Administrative Review, 72 FR 43607 (August 6, 2007) (Preliminary Results). Based on the results of our verification and our analysis of the comments received, the Department has revised the subsidy rates for the respondents; Garware Polyester Ltd. (Garware) and MTZ Polyfilms, Ltd. (MTZ). The final subsidy rates for the reviewed companies are listed below in the section entitled “Final Results of Review.”

EFFECTIVE DATE: February 11, 2008

FOR FURTHER INFORMATION CONTACT: Elfi Blum or Sean Carey, AD/CVD Operations, Office 6, Import Administration, International Trade Administration, U.S. Department of Commerce, 14th Street and Constitution Avenue, NW, Washington, DC 20230; telephone: (202) 482-0197, or (202) 482-3964, respectively.

SUPPLEMENTARY INFORMATION:

Background

Since the publication of the Preliminary Results, the following events have occurred. As provided in 782(i) of the Tariff Act of 1930, as amended (the Act), the Department conducted a verification of the questionnaire responses submitted by the Government of India (GOI), Garware, and MTZ from September 11 through September 25, 2007. We used standard verification procedures, including on-site examination of relevant records and original source documents. Our verification results are outlined in the verification memoranda, public versions of which are on file in the Central Records Unit (CRU), room 1117 of the Main Commerce Building. See “Verification of the Questionnaire Responses Submitted by the Government of India (GOI)” (December 7, 2007) (GOI Verification Report); “Verification of the Questionnaire Responses Submitted by Garware Polyester, Ltd. (Garware)” (December 7, 2007) (Garware Verification Report); and “Verification of the Questionnaire Responses Submitted by MTZ Polyfilms Ltd. (MTZ)” (December 7, 2007) (MTZ Verification Report). On December 20, 2007, Dupont Teijin Films, Mitsubishi Polyester Film of America, and Toray Plastics (America), Inc. (collectively, the Petitioners), Garware, and MTZ filed case briefs. Garware, MTZ and Petitioners filed rebuttal briefs on December 28, 2007. Based on a request by MTZ, a public hearing was held on January 10, 2008.

Scope of the Order

For purposes of the order, the products covered are all gauges of raw, pretreated, or primed Polyethylene Terephthalate Film, Sheet and Strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00. HTSUS subheadings are provided for convenience and customs purposes. The written description of the scope of the order is dispositive.

Analysis of Comments Received

Following the release of the verification reports for the GOI, Garware and MTZ, we gave interested parties an opportunity to comment on our Preliminary Results. All issues raised in the case and rebuttal briefs by parties to this administrative review are addressed in the Issues and Decision Memorandum for the 2005 Countervailing Duty Administrative Review of Polyethylene Terephthalate Film, Sheet, and Strip from India, from Stephen J. Claeys, Deputy Assistant Secretary for Import Administration to David M. Spooner, Assistant Secretary for Import Administration (February 4, 2008) (Issues and Decision Memorandum), which is hereby adopted by this notice. The Issues and Decision Memorandum also contains a complete analysis of the programs covered by this review and the methodologies used to calculate the subsidy rates. A list of the comments raised in the briefs and addressed in the Issues and Decision Memorandum is appended to this notice. The Issues and Decision Memorandum is on file in the CRU, and can be accessed directly on the Web at http://www.trade.gov/ia/.

Changes Since the Preliminary Results

Based on our verification and analysis of comments received, we have made some adjustments in the methodology that was used in the Preliminary Results for calculating Garware's and MTZ's subsidy rates under several programs. All changes are discussed in detail in the Issues and Decision Memorandum.

Final Results of Review

In accordance with section 751(a)(1)(A) of the Act and 19 CFR 351.221(b)(5), we calculated individual ad valorem subsidy rates for the producers/exporters, Garware and MTZ, the only producers/exporters subject to review for the calendar year 2005, the period of review (POR) for this administrative review.

Manufacturer/Exporter | Net Subsidy Rate
Garware Polyester Ltd. | 10.37%%
MTZ Polyfilms Ltd. | 33.94%%

Assessment and Cash Deposit Instructions

The Department intends to issue assessment instructions to U.S. Customs and Border Protection (CBP) 15 days after the date of publication of these final results of review to liquidate shipments of subject merchandise by Garware and MTZ entered, or withdrawn from warehouse, for consumption on or after January 1, 2005 through December 31, 2005, at 10.37 percent and 33.94 percent, respectively, ad valorem of the entered value. We will also instruct CBP to collect cash deposits of estimated countervailing duties, at these rates, on shipments of the subject merchandise by Garware and MTZ entered, or withdrawn from warehouse, for consumption on or after the date of publication of these final results of review. For all non-reviewed companies, the Department has instructed CBP to assess countervailing duties at the cash deposit rates in effect at the time of entry, for entries between January 1, 2005 and December 31, 2005. The cash deposit rates for all companies not covered by this review are not changed by the results of this review.

Return or Destruction of Proprietary Information

This notice serves as a reminder to parties subject to the administrative protective order (APO) of their responsibility concerning the disposition of proprietary information disclosed under the APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: February 4, 2008.
David M. Spooner,
Assistant Secretary for Import Administration.

Appendix I

List Of Issues Addressed In The Issues And Decision Memorandum

Comment 1: Countervailability Determination and Cash-Deposit Adjustment for the Target Plus Scheme

Comment 2: Countervailing the Total Subsidy Provided by the Pre- and Post-Shipment Program

Comment 3: The Countervailability of the Advance License Program (ALP)

Comment 4: The Denominator in the Benefit Calculation for Export Promotion Capital Goods Scheme (EPCGS)

Comment 5: Calculation Methodology for EPCGS

Comment 6: Partial Fulfillment of the EPCGS Export Obligation

Comment 7: The Interest Rate Used to Calculate the EPCGS Benefit

Comment 8: EPCGS Benefits for Machinery Not Used to Produce Subject Merchandise

Comment 9: The Treatment of Countervailing Duties in the Benefit Calculation for EPCGS

Comment 10: Company Specific Average Useful Life (AUL) for MTZ

Comment 11: Purchases From a Union Territory

Comment 12: Adjustments to Cash Deposit Rates to Account for Program-Wide Changes

Comment 13: State of Maharashtra (SOM) Sales Tax Exemption

Comment 14: Timetable for the Department to Consider Arguments

[FR Doc. E8-2467 Filed 2-8-08; 8:45 am]

BILLING CODE 3510-DS-S